DEPARTMENT OF THE TREASURY

Community Development Financial Institutions Fund

Notice of Information Collection and Request for Public Comment

ACTION: Notice; extension of comment period.

SUMMARY: The Community Development Financial Institutions Fund (CDFI Fund), U.S. Department of the Treasury, is extending the public comment period concerning the Community Development Financial Institutions Program—Certification Application, which Applicants will submit through the CDFI Fund's Awards Management Information System (AMIS). The original Federal Register document announcing the comment period was published on May 7, 2020. With this extension, the comment period ends on November 5, 2020.

DATES: The public comment period for the document published on May 7, 2020 (85 FR 27275), is being extended. Written comments must be received on or before November 5, 2020.

ADDRESSES: Submit your comments via email to Tanya McInnis, Program Manager for the Office of Certification, Compliance Monitoring and Evaluation, CDFI Fund, at ccme@cdfi.treas.gov.

FOR FURTHER INFORMATION CONTACT: Tanya McInnis, Program Manager for the Office of Certification, Compliance Monitoring and Evaluation, Community Development Financial Institutions Fund, U.S. Department of the Treasury, 1500 Pennsylvania Ave. NW, Washington DC 20220 or by phone at (202) 653-0300. Other information regarding the CDFI Fund and its programs may be obtained through the CDFI Fund's website at http://www.cdfifund.gov.

SUPPLEMENTARY INFORMATION: Title: Community Development Financial Institutions Program—Certification Application.

OMB Number: 1559-0028.

The Notice and Request for Public Comment for the Community Development Financial Institutions Program—Certification Application, was published in the Federal Register on May 7, 2020. The Notice provided a 90-day comment period that was set to close on August 5, 2020. In light of the challenges posed by the COVID-19 pandemic, and to ensure that stakeholders have the time they need to provide comments, the CDFI Fund determined that an extension of the comment period to November 5, 2020 is appropriate. The comment period will now close November 5, 2020.

Authority: 12 U.S.C. 4703, 4703 note, 4704, 4706, 4707, 4717; 12 CFR part 1805.

Jodie L. Harris,
Director, Community Development Financial Institutions Fund.

[FR Doc. 2020-16196 Filed 7-24-20; 8:45 am]

BILLING CODE 4810-70-P